DEPARTMENT OF THE INTERIOR

Bureau of Land Management

[A2407-014-004-065516; O2509-014-004-125222]

Notice of Availability of the Draft Central Coast Field Office Oil and Gas, Leasing and Development Supplemental Environmental Impact Statement, California

AGENCY: Bureau of Land Management, Interior.

ACTION: Notice of availability.

SUMMARY: In compliance with the National Environmental Policy Act (NEPA) of 1969, as amended, and the Federal Land Policy and Management Act (FLPMA) of 1976, as amended, the Bureau of Land Management (BLM) announces the availability of the Draft Supplemental Environmental Impact Statement (EIS) for the Central Coast Field Office Oil and Gas Leasing and Development Supplemental Environmental Impact Statement.

DATES: To afford the BLM the opportunity to consider comments in the Draft Supplemental EIS, please ensure that the BLM receives your comments within 45 days following the date the Environmental Protection Agency (EPA) publishes its Notice of Availability (NOA) of the Draft Supplemental EIS in the Federal Register. The EPA usually publishes its NOAs on Fridays. The BLM will hold one virtual public meeting, with the date announced on the BLM California website. The public must register in advance for this webinar to participate: https://empsi.zoom.us/webinar/register/WN_QQH86OyJTaGC_E6xGmwqlA#/registration.

ADDRESSES: The Draft Supplemental EIS and associated documents are available for review on the BLM project website at: https://eplanning.blm.gov/eplanning-ui/project/2037489/510.

Written comments related to the Central Coast Field Office Oil and Gas Leasing and Development Supplemental EIS may be submitted by the following method: https://eplanning.blm.gov/eplanning-ui/project/2037489/510.

Documents pertinent to this proposal may also be examined at the Central Coast Field Office, address 940 2nd Ave., Marina, CA 93933.

FOR FURTHER INFORMATION CONTACT: Sarah Mathews, Project Manager, telephone (831) 582-2257; address 940 2nd Ave. Marina, CA 93933; email blm_ca_ccfo_oil_gas_seis@blm.gov. Individuals in the United States who are deaf, deafblind, hard of hearing, or have a speech disability may dial 711 (TTY, TDD, or TeleBraille) to access telecommunications relay services for contacting Ms. Mathews. Individuals outside the United States should use the relay services offered within their country to make international calls to the point-of-contact in the United States.

SUPPLEMENTARY INFORMATION: The Central Coast Field Office planning area includes Alameda, Contra Costa, Monterey, San Benito, San Mateo, Santa Clara, and Santa Cruz counties, and portions of Fresno, Merced, and San Joaquin counties and encompasses approximately 284,000 acres of public land and an additional 509,000 acres of Federal mineral estate (i.e., split estate). The purpose of the Supplemental EIS is to analyze the environmental effects of oil and gas leasing and development within the Planning Area and to determine whether changes are needed to the fluid minerals decisions based on new information or changes in circumstances in the Central Coast Field Office. The need for the supplemental environmental analysis is to respond to the Settlement Agreement in Case No. 3:19-cv-07155-JSC filed with the U.S. District Court for the Northern District of California on December 5, 2022. The BLM presented preliminary information for public scoping review and comment in the June 23, 2025, Federal Register Notice of Intent (90 FR 26602). Issues identified by BLM personnel; Federal, State, and local agencies; and other stakeholders and analyzed in the Draft Supplemental EIS were categorized by resources and include: air and atmospheric values; water quality and quantity; special status species; and recreation. The six management alternatives as analyzed in the 2019 Proposed RMP/Final EIS were:

Alternative A. Alternative A would continue current management under the existing RMP. All Federal mineral estate would be available for oil and gas leasing, except for designated wilderness, wilderness study areas, the Fort Ord National Monument, and the Clear Creek Serpentine Area of Critical Environmental Concern (ACEC), which are closed under the existing RMP. No Surface Occupancy (NSO) stipulations would be applied in ACECs and to Recreation and Public Purpose (R&PP) leases. The Endangered Species stipulation from the existing RMP would apply in all areas open to leasing.

Alternative B. Under Alternative B, Federal mineral estate within the boundaries of oil and gas fields plus a 0.5-mile buffer currently identified by the Geologic Energy Management Division (CalGEM) would be available for leasing. Other areas would be closed to oil and gas leasing, including all National Conservation Lands. Controlled Surface Use (CSU) stipulations would apply to all lands open to leasing.

Alternative C. Under Alternative C, unless currently closed under the existing RMP, Federal mineral estate would be open to leasing within high oil and gas potential areas or within 0.5-mile of the boundaries of oil and gas fields currently identified by CalGEM, with the exception of core population areas of the giant kangaroo rat in the vicinity of Panoche, Griswold-Tumey and Ciervo Hills, which would be closed to leasing. CSU stipulations would apply to all lands open to leasing. NSO stipulations would apply to some lands open to leasing, including: (1) Threatened and endangered species critical habitat; (2) BLM-developed recreation and administrative sites; and (3) Special status split estate lands (e.g., State parks, county parks, lands with existing conservation easements, land trusts and scenic designations).

Alternative D. Under Alternative D, unless currently closed under the existing RMP, Federal mineral estate underlying BLM surface estate would be available for leasing. All Federal mineral estate underlying the Ciervo Panoche Natural Area (both BLM surface and split-estate lands) would be closed to leasing. CSU stipulations would apply to all lands open to leasing. NSO stipulations would be applied in ACECs and R&PP leases.

Alternative E. Under Alternative E, unless currently closed under the existing RMP, Federal mineral estate outside of a California Department of Water Resources Bulletin 118, Groundwater Basin or Sub-basin, would be available for leasing. CSU stipulations would apply to all lands open to leasing. NSO stipulations would apply to some lands open to leasing, including: (1) 12-digit Hydrologic Unit Codes (HUCs) intersecting EPA impaired, perennial surface waters (BLM surface and split estate); (2) 12-digit HUCs intersecting non-impaired, perennial surface waters that intersect split estate; (3) 12-digit HUC sub-watersheds with the highest aquatic intactness score; (4) 0.25 miles from non-impaired, perennial surface waters; and (5) 0.25 miles from eligible Wild and Scenic Rivers.

Alternative F (Preferred Alternative). Under Alternative F, all Federal mineral estate would be available for oil and gas leasing with CSU stipulations, except for designated wilderness, wilderness study areas, the Fort Ord National Monument, and the Clear Creek Serpentine ACEC, which are closed under the existing RMP. NSO stipulations would be applied in the Joaquin Rocks ACEC, as well as within ACECs and giant kangaroo rat core population areas in the Ciervo Panoche Natural Area. Under each action alternative, CSU stipulations would apply to all lands open to leasing. The CSU stipulations would mitigate impacts to sensitive resources such as protected, sensitive, and priority species; critical and priority habitat; cultural resources; and water resources by requiring special operational constraints on surface use to protect these resources.

The results of this Draft Supplemental Analysis, additive to those identified in the 2019 Final EIS, did not show notable increase in total impacts. No conflicts were found between the estimated impacts of the alternatives and the resource or program management goals and objectives stated in the RMP amendment. The range of alternatives has not changed between the BLM-approved 2019 RMP amendment and its 2019 Final EIS, and the 2025 Draft Supplemental EIS. Therefore, no amendment to the 2019 RMP amendment is necessary.

The Draft Supplement EIS addresses two lease parcels within the CCFO that do not contain NSO stipulations (non-NSO leases). Fourteen lease parcels were considered in the 2019 Final EIS, but twelve of the fourteen prospective leases were declined or terminated at the request of the bidder. The BLM's proposed plan identifies implementation-level decisions for the two remaining issued but suspended leases. For each of the two remaining lease parcels, the implementation decision identifies stipulations necessary for resource protection. These implementation-level decisions are subject to appeal to the Interior Board of Land Appeals after the signing of a Record of Decision for this project.

Public Involvement Process

The date(s) and location(s) of any additional meetings will be announced in advance through local media, newspapers, ePlanning project page (see ADDRESSES), BLM website (see ADDRESSES).

The BLM will continue to consult with Indian Tribal Nations on a government-to-government basis in accordance with Executive Order 13175, BLM Manual Section 1780 and other Departmental policies. Tribal concerns, including impacts on Indian trust assets and potential impacts to cultural resources, will be given due consideration.

Before including your address, phone number, email address, or other personally identifiable information in your comment, you should be aware that your entire comment—including your personally identifiable information—may be made publicly available at any time. While you can ask us in your comment to withhold your personally identifiable information from public review, we cannot guarantee that we will be able to do so.

Authority: 42 U.S.C. 4332.

Joseph Stout,
State Director.

[FR Doc. 2026-00468 Filed 1-12-26; 8:45 am]

BILLING CODE 4331-15-P